DEPARTMENT OF THE INTERIOR

National Park Service

[NPS-WASO-NRNHL-DTS#-28055; PPWOCRADI0, PCU00RP14.R50000]

National Register of Historic Places; Notification of Pending Nominations and Related Actions

AGENCY: National Park Service, Interior.

ACTION: Notice.

SUMMARY: The National Park Service is soliciting comments on the significance of properties nominated before May 25, 2019, for listing or related actions in the National Register of Historic Places.

DATES: Comments should be submitted by June 26, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before May 25, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ALABAMA

Baldwin County

Manly-Strong House (Creole and Gulf Coast Cottages in Baldwin County TR), 100 Deer Ct., Daphne, MP100004134

Jefferson County

Birmingham Wholesale & Retail (West) Historic District, 1st through 6 Aves. N Bet. 11th and 16th Sts. N, Birmingham, SG100004132

Bush Hills Historic District, Roughly bounded by Princeton Pkwy. W, 3rd Ave. W, Bush Blvd., I-20/59, 8th Court W, and 8th Ave. W, Birmingham, SG100004133

Madison County

McThornmor Acres Subdivision Historic District, Holmes Ave. NW, Brickell Rd. NW, Northington St. NW & Woodall Ln. NW, Huntsville, SG100004119

Mobile County

Seamen's Club Building, 350 St. Joseph St., Mobile, SG100004131

CALIFORNIA

Los Angeles County

Bay Street Beach Historic District, Roughly bounded by Pacific Ocean, Ocean Front Walk from Vicente Ter. to Crescent Bay, Park & Bicknell Ave. extending into ocean, Santa Monica, SG100004116

Commercial Exchange Building, 416-436 W 8th St., Los Angeles, SG100004117

Hunt House, 24514 Malibu Rd., Malibu, SG100004118

DISTRICT OF COLUMBIA

District of Columbia

Ethelhurst, The (Apartment Buildings in Washington, DC, MPS), 1025 Fifteenth St. NW, Washington, MP100004123

GEORGIA

Richmond County

Weiss-Steinburg-Bush House, 1300 Buena Vista Rd., Augusta, SG100004115

Woodlawn Historic District, Roughly bounded by Walton Way, Emmett St., Wrightsboro Rd., and Heard Ave., Augusta, SG100004122

IOWA

Henry County

Hulme, Samuel and Sarah, House, 1577 Franklin Ave., Trenton vicinity, SG100004114

Scott County

Davenport Motor Row and Industrial Historic District, River Dr., 2nd & 3rd Sts. between Perry & Iowa Sts., Davenport, SG100004113

Shelby County

Pleasant View Stock Farm Historic District, 1933-1935 Road M36, Irwin vicinity, SG100004112

KENTUCKY

Boyle County

Barbee, Thomas, House, 204 E Walnut St., Danville, SG100004121

Fayette County

Trail's End Camp, Address Restricted, Lexington vicinity, SG100004120

MINNESOTA

Hennepin County

Dayton's Department Store, 700 Nicollet Mall, Minneapolis, SG100004147

Rice County

Faribault Furniture Company, 28 Fourth St. NE, Faribault, SG100004146

NEBRASKA

Cedar County

Harrington Downtown Historic District, Broadway Ave. from Centre St. to Railroad St.; Main St. From Madison Ave. to Alley, W. of Broadway Ave., Harrington, SG100004136

Hartington Carnegie Library (Carnegie Libraries in Nebraska MPS AD), 106 S Broadway Ave., Hartington, MP100004137

Douglas County

Nebraska Buick Auto Company (Lincoln Highway in Nebraska MPS), 1901 Howard St., Omaha, MP100004138

Garden County

Oshkosh Water Tower, 103 East Ave. E, Oshkosh, SG100004140

Hall County

4th Street Commercial Historic District, Roughly bounded by alley S of 5th St., N Sycamore St., Union Pacific RR Tracks, and N Cedar St., Grand Island, SG100004141

Jefferson County

Kesterson, John C., House, 907 4th St., Fairbury, SG100004142

SOUTH DAKOTA

Hughes County

Pierre American Legion Cabin, 520 S Pierre St., Pierre, SG100004127

Kingsbury County

Shady Lawn School No. 8 (Schools in South Dakota MPS), 42893 198th St., De Smet, MP100004125

Lincoln County

Gale Buildings, 101 and 103-107 S Main, Canton, SG100004126

Minnehaha County

East Site Fire Station and Branch Library, 600 E 7th St., Sioux Falls, SG100004124

VERMONT

Windsor County

Goodrich Four Corners Historic District (Agricultural Resources of Vermont MPS), 929-987 Union Village, 18 Pattrell & 694 Goodrich Four Corners Rds., Norwich, MP100004111

An owner objection has been received for the following resource:

OREGON

Coos County

Q'alya ta Kukwis shicdhii me Historic District, Address Restricted, Coos Bay, SG10000414

Additional documentation has been received for the following resources:

ALABAMA

Baldwin County

Fairhope Downtown Historic District, Roughly bounded by Equality St., Fairhope Ave., Morphy Ave., School St., Summit St., Fairhope, AD04000115

Mobile County

Barton Academy, 504 Government St., Mobile, AD70000107

ALASKA

Anchorage Borough

McKinley Tower Apartments, 337 E 4th Ave., Anchorage, AD08000882

MINNESOTA

Morrison County

Weyerhaeuser, Charles A., and Musser, Richard Drew, Houses, Highland Ave., Little Falls, AD85001990

VIRGINIA

Buena Vista Independent City

Southern Seminary Main Building, Jct. of Ivy and Park Aves., Buena Vista (Independent City), AD72001501

Authority: Section 60.13 of 36 CFR part 60.

Dated: May 29, 2019.
Kathryn G. Smith,
Acting Chief, National Register of Historic Places/National Historic Landmarks Program.

[FR Doc. 2019-12236 Filed 6-10-19; 8:45 am]

BILLING CODE 4312-52-P